DEPARTMENT OF AGRICULTURE

Cooperative State Research, Education, and Extension Service Solicitation of Input From Stakeholders Regarding the Establishment of the Agriculture and Food Research Initiative (AFRI)

AGENCY: Cooperative State Research, Education, and Extension Service, USDA.

ACTION: Notice of public meeting and request for stakeholder input.

SUMMARY: The Cooperative State Research, Education, and Extension Service (CSREES) is creating a new research, education, and extension program called the Agriculture and Food Research Initiative (AFRI). By this notice, CSREES is designated to act on behalf of the Secretary of Agriculture in soliciting public comment from interested persons regarding the implementing regulation to be developed for this new program as required under section 7406 of the Food, Conservation, and Energy Act of 2008.

DATES: The meeting will be held on Wednesday, September 10, 2008, from 9:30 a.m. to 3 p.m. All comments must be received by close of business Wednesday, September 24, 2008, to be considered.

ADDRESSES: The meeting will be held in Room 1410 A/B/C/D; Waterfront Centre Building; Cooperative State Research, Education, and Extension Service; United States Department of Agriculture; 800 9th Street, SW.; Washington, DC 20024. Meeting participants will need to provide photo identification to be admitted to the building. Please allow sufficient time to go through security.

FOR FURTHER INFORMATION CONTACT: Ms. Terri Joya, (202) 401-1761 (phone), (202) 401-1782 (fax), or tjoya@csrees.usda.gov. You may submit comments, identified by CSREES-2008-0002 by any of the following methods:

Federal eRulemaking Portal: http://www.regulations.gov. Follow the instructions for submitting comments.

E-mail: afri@csrees.usda.gov. Include CSREES-2008-0002 in the subject line of the message.

Fax: (202) 401-1782.

Mail: Paper, disk or CD-ROM submissions should be submitted to AFRI; Competitive Programs (CP) Unit; Cooperative State Research, Education, and Extension Service; U.S. Department of Agriculture; STOP 2240; 1400 Independence Avenue, SW.; Washington, DC 20250-2240.

Hand Delivery/Courier: AFRI; Competitive Programs (CP) Unit; Cooperative State Research, Education, and Extension Service; U.S. Department of Agriculture; Room 2457, Waterfront Centre; 800 9th Street, SW.; Washington, DC 20024.

Instructions: All submissions received must include the agency name and CSREES-2008-0002. All comments received will be posted to http://www.regulations.gov, including any personal information provided.

SUPPLEMENTARY INFORMATION:

Additional Meeting and Comment Procedures

Because of the diversity of subjects, and to aid participants in scheduling their attendance, the following schedule is anticipated for the September 10, 2008, meeting:

9:30 a.m.-10 a.m.-Introduction to AFRI.

10 a.m.-3 p.m.-General administration of AFRI including solicitation of proposals, types of projects and awards, length of awards, evaluation criteria, and protocols to ensure the widest program participation. Allocation of funds including protocols to solicit and consider stakeholder input, determination of priority areas, and determination of activities to be supported—applied research, fundamental research, extension, education and integrated. A break is scheduled for 12 p.m. to 1 p.m.

Persons wishing to present oral comments at the September 10, 2008, meeting are requested to pre-register by contacting Ms. Terri Joya at (202) 401-1761, by fax at (202) 401-1782 or by e-mail to tjoya@csrees.usda.gov. Participants may reserve one 5-minute comment period. More time may be available, depending on the number of people wishing to make a presentation and the time needed for questions following presentations. Reservations will be confirmed on a first-come, first-served basis. All other attendees may register at the meeting. Written comments may also be submitted for the record at the meeting. All comments must be received by close of business Wednesday, September 24, 2008, to be considered. All comments and the official transcript of the meeting, when they become available, may be reviewed on the CSREES Web page for six months. Participants who require a sign language interpreter or other special accommodations should contact Ms. Joya as directed above.

Background and Purpose

Section 7406 of the Food, Conservation, and Energy Act of 2008 (Pub. L. 110-246) amends subsection (b) of the Competitive, Special, and Facilities Research Grant Act (7 U.S.C. 450i(b)) to authorize the Secretary of Agriculture to establish a new competitive grant program to provide funding for fundamental and applied research, extension, and education to address food and agricultural sciences. Subject to the availability of appropriations to carry out this program, the Secretary may award grants to State agricultural experiment stations; colleges and universities; university research foundations; other research institutions and organizations; Federal agencies; national laboratories; private organizations or corporations; individuals; or any group consisting of two or more of the aforementioned entities. Grants shall be awarded to address priorities in United States agriculture in the following areas: (A) Plant health and production and plant products; (B) Animal health and production and animal products; (C) Food safety, nutrition, and health; (D) Renewable energy, natural resources, and environment; (E) Agriculture systems and technology; and (F) Agriculture economics and rural communities. To the maximum extent practicable, CSREES, in coordination with the Under Secretary for Research, Education, and Economics (REE), will make awards for high priority research, education, and extension, taking into consideration, when available, the determinations made by the National Agricultural Research, Extension, Education, and Economics Advisory Board. The authority to carry out this program has been delegated to CSREES through the Undersecretary for REE.

CSREES is holding a public meeting to obtain comments to use in developing the implementing rule for the new AFRI competitive grants program. The meeting is open to the public. Written comments and suggestions on issues that may be considered in the meeting may be submitted to the CSREES Docket Clerk at the address above.

Summary of Agriculture and Food Research Initiative

The program authorizes for appropriation $700 million in grants for FY 2008-12, of which the Secretary may retain no more than 4% for administrative costs. Funds will be available for obligation for a two-year period beginning in the fiscal year for which funds are first made available. Grants will be awarded on the basis of merit, quality, and relevance and may have terms of up to 10 years.

Of the AFRI funds allocated to research activities, section 7406 directs 60 percent toward grants for fundamental (or basic) research, and 40 percent toward applied research. Of the AFRI funds allocated to fundamental research, not less than 30 percent of AFRI grants will be directed toward research by multidisciplinary teams. In addition, the law specifies that of the total amount appropriated for AFRI, not less than 30 percent is to be used for integrated programs.

Implementation Plans

CSREES plans to consider stakeholder input received from this public meeting as well as other written comments in developing an implementing regulation for this program. CSREES anticipates releasing a Request for Applications (RFA) by mid-January 2009.

Done at Washington, DC, this 26th day of August 2008.
Colien Hefferan,
Administrator, Cooperative State Research, Education, and Extension Service.

[FR Doc. E8-20146 Filed 8-28-08; 8:45 am]

BILLING CODE 3410-22-P